ENVIRONMENTAL PROTECTION AGENCY

[EPA-HQ-OW-2009-0817; FRL-8975-8]

Agency Information Collection Activities; Proposed Collection; Comment Request; Stormwater Management Including Discharges From Newly Developed and Redeveloped Sites; EPA ICR No. 2366.01, OMB Control No. 2040-NEW.

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or beforeDecember 29, 2009.

ADDRESSES: Submit your comments, identified by Docket ID No. EPA-HQ-OW-2009-0817, by one of the following methods:

• www.regulations.gov: Follow the on-line instructions for submitting comments.

• E-mail: OW-Docket@epa.gov, Attention Docket ID No. EPA-HQ-OW-2009-0817.

• Fax: 202-566-9744.

• Mail: Water Docket, U.S. Environmental Protection Agency, Mail code: 4203M, 1200 Pennsylvania Ave., NW., Washington, DC 20460. Attention Docket ID No. EPA-HQ-OW-2009-0817.

• Hand Delivery: Water Docket, EPA Docket Center, EPA West Building Room 3334, 1301 Constitution Ave., NW., Washington, DC, Attention Docket ID No. EPA-HQ-OW-2009-0817. Such deliveries are only accepted during the Docket's normal hours of operation, and special arrangements should be made for deliveries of boxed information.

Instructions: Direct your comments to Docket ID No. EPA-HQ-OW-2009-0817. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Jan Matuszko, Engineering and Analysis Division, Office of Water, (4303T), Environmental Protection Agency, 1200 Pennsylvania Ave., NW., Washington, DC 20460; telephone number: 202-566-1035; fax number: 202-566-1053; e-mail address: matuszko.jan@epa.gov or Jonathan Angier, Water Permits Division, (4203M), Environmental Protection Agency, 1200 Pennsylvania Ave., NW., Washington, DC 20460; telephone number: 202-564-0729; fax number: 202-564-6392; e-mail address: angier.jonathan@epa.gov.

SUPPLEMENTARY INFORMATION:

How Can I Access the Docket and/or Submit Comments?

EPA has established a public docket for this ICR under Docket ID No. EPA-HQ-OW-2009-0817, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Docket ID No. EPA-HQ-2009-0817

Affected entities: EPA is proposing to distribute three separate questionnaires focusing on gathering data pertaining to current stormwater management practices, including those used to control discharges from newly developed and redeveloped sites. The first questionnaire (“Industry Questionnaire”) targets establishments that develop and redevelop sites in the United States. Establishments receiving this questionnaire are classified by the following eight North American Industry Classification System (NAICS) codes:

236115: New Single-Family Housing Construction (except operative builders);

236116: New Multifamily Housing Construction (except operative builders);

236117: New Housing Operative Builders;

236210: Industrial Building Construction;

236220: Commercial and Institutional Building Construction;

237210: Land Subdivision;

237310: Highway, Street and Bridge Construction; and

237990: Other Heavy and Civil Engineering Construction.

The second questionnaire (“MS4 Questionnaire”) targets owners or operators of municipal separate storm sewer systems (MS4s). This includes MS4 communities regulated under NPDES stormwater Phase I and Phase II regulations and other local government entities.

Lastly, EPA designed the third questionnaire (“States Questionnaire”) to obtain information from the states and territories.

Title: Information Collection Request for Stormwater Management Including Discharges from Newly Developed and Redeveloped Sites.

ICR numbers: EPA ICR No. 2366.01, OMB Control No. 2040-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: As the urban, suburban and exurban human environment expands, there is an increase in impervious land cover and stormwater discharges. This increase in impervious land cover on developed sites reduces or eliminates the natural infiltration of precipitation. The resulting stormwater flows across roads, rooftops, and other impervious surfaces, picking up pollutants that are then discharged to our nation's waters. In addition, the increased volume of stormwater discharges results in the scouring of rivers and streams, degrading the physical integrity of aquatic habitats, stream function and overall water quality.

In order to make EPA's stormwater program more effective in protecting our nation's water quality, EPA commissioned the National Research Council (NRC) to review the Agency's program for controlling stormwater discharges under the CWA and recommend any steps the Agency should take. The NRC released its report, entitled Urban Stormwater Management in the United States, National Academy of Sciences Press, in October 2008, with recommendations for EPA on how to strengthen the national stormwater program (available at http://cfpub.epa.gov/npdes/home.cfm?program_id=6). The NRC found that the current regulatory approach by EPA under the CWA is not adequately controlling all sources of stormwater discharge that are contributing to waterbody impairment. The NRC recommended that EPA address stormwater discharges from impervious land cover and promote practices that harvest, infiltrate and evapotranspirate stormwater to reduce or prevent it from being discharged, which is critical to reducing the volume and pollutant loading to our nation's waters.

In order to protect our nation's water quality, EPA is committing to move forward with a nationwide rulemaking pursuant to CWA section 402(p), 33 U.S.C. 1342(p), to propose requirements, including design or performance standards, for stormwater discharges from, at minimum, newly developed and redeveloped sites. EPA intends to propose regulatory options that would revise the NPDES regulations and establish a comprehensive program to address stormwater discharges from newly developed and redeveloped sites and to take final action no later than November 2012. As part of this effort, EPA needs to gather data to assess current practices and regulatory mechanisms; the effectiveness and feasibility of various control technologies, best management practices (BMPs), and pollution prevention opportunities and their associated potential pollutant reductions and costs; and the possible financial impacts associated with implementing regulations for stormwater discharges in developed and developing areas. Therefore, EPA is seeking Office of Management and Budget (OMB) approval for an ICR.

In order to evaluate current stormwater management practices, the scope of the current state and local programs, and any EPA regulation to control these discharges, EPA is proposing several data collection activities. Because a regulation could impact, among others, establishments responsible for developing or redeveloping sites, MS4s, and the states, the ICR announced today is composed of three questionnaires: an Industry Questionnaire, an MS4 Questionnaire, and a State Questionnaire.

EPA is distributing the Industry Questionnaire to collect technical feasibility, effectiveness, and cost information on various controls, pollution prevention technologies, and BMPs applied to stormwater discharges from newly developed and redeveloped sites. Some of these BMPs include promoting onsite stormwater retention. This information will be used to assist EPA in evaluating various regulatory options and determining the site level and nationwide costs for regulating the pollutant discharges associated with stormwater from newly developed and redeveloped sites. Additionally, EPA will collect firm level financial data to assess the economic impact if these controls were the basis of a regulation.

The MS4 and State Questionnaires will collect information on the scope of the current regulatory program and the stormwater management practices that are currently required for controlling stormwater discharges. This includes information on site plan review, performance standards or design criteria, retention practices and associated financial information. EPA intends to use this information to assess existing conditions and the impact to MS4s and states that may result from a regulation.

EPA intends to submit this information collection request to the Office of Management and Budget (OMB) for approval to distribute three mandatory questionnaires under the authority of Section 308 of the CWA, 33 U.S.C. 1318. All questionnaire recipients will be required to complete and return the questionnaire to EPA.

EPA solicits comment on the following items regarding this ICR.

(1) Are there alternate means of gathering data from the MS4s and/or States that would obviate the need for a questionnaire?

(2) Are there other commercial enterprises that should be included as respondents, as a means of obtaining maintenance and installation cost information for stormwater controls?

(3) Are there alternate means of gathering information on general project design and costs, and the changes in general project design and costs that could result from implementing national standards for stormwater discharges from newly developed and redeveloped sites?

(4) Are there alternate means of distributing the “Industry Questionnaire” in order to get representative information while causing less burden to the respondents, such as a short questionnaire that goes out to a larger sample of respondents while a smaller subset of respondents receives a more detailed questionnaire?

Burden Statement: The annual public reporting and recordkeeping burden for this collection of information is estimated to average 53 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 2,060.

Frequency of response: One occasion.

Estimated total average number of hours for each respondent: 53.

Estimated total annual burden hours: 108,675.

Estimated total annual costs: $4.07 million. This includes an estimated burden cost of $4.05 million for labor and $17,150 for operations and maintenance.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: October 26, 2009.
Ephraim S. King,
Director, Office of Science and Technology.

[FR Doc. E9-26169 Filed 10-29-09; 8:45 am]

BILLING CODE 6560-50-P